DEPARTMENT OF AGRICULTURE

Animal and Plant Health Inspection Service

[Docket No. 01-013-1]

Protection of Sunflowers From Red-Winged Blackbirds in North Dakota, South Dakota, and Minnesota; Request for Public Involvement

AGENCY: Animal and Plant Health Inspection Service, USDA.

ACTION: Notice.

SUMMARY: The Animal and Plant Health Inspection Service's Wildlife Services program is soliciting public involvement in the development of issues necessary to complete an analysis of the environmental impacts of reducing red-winged blackbird damage to ripening sunflowers in North Dakota, South Dakota, and Minnesota. The information received in response to this notice will be considered during the development of an environmental assessment that will be prepared in accordance with the National Environmental Policy Act.

DATES: We invite you to comment on this notice. We will consider all comments that we receive by April 23, 2001.

ADDRESSES: Please send four copies of your comment (an original and three copies) to: Docket No. 01-013-1, Regulatory Analysis and Development, PPD, APHIS, Suite 3C03, 4700 River Road Unit 118, Riverdale, MD 20737-1238.

Please state that your comment refers to Docket No. 01-013-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Phil Mastrangelo, State Director, Wildlife Services, APHIS, USDA, 2110 Mariam Circle, Suite A, Bismarck, ND 58501-2502; phone: (701) 250-4405.

SUPPLEMENTARY INFORMATION: Wildlife Services (WS) of the Animal and Plant Health Inspection Service (APHIS) provides technical and operational assistance to growers who request assistance in managing blackbird damage to sunflower crops. WS loans damage abatement equipment (e.g., propane cannons, pyrotechnics) to growers, conducts training workshops, provides informational leaflets on bird damage management and sources of damage abatement tools, and conducts roost management programs to control blackbird populations near sunflower producing areas.

WS previously proposed a blackbird damage management research project for the protection of sunflowers. The environmental assessment was reviewed and several private organizations and State and Federal agencies opposed various aspects of the project, including referring to the project as a research project instead of an operational project. Comments in opposition to the project generally focused on the lack of scientific basis, its potential effect on endangered species, and the likelihood that program would be ineffective in reducing damage caused by blackbirds.

Approximately 80 percent of sunflower production in the United States occurs in North Dakota, South Dakota, and Minnesota. Sunflower production in these States has increased from 1 million kg in the early 1960's to about 1.5 billion kg, valued at $315 million, in 1999. However, increased production of sunflowers has been hampered by blackbird damage. Wildlife biologists have been unable to adequately reduce blackbird damage to economically acceptable levels for certain growers.

Sunflower seeds are an ideal food for birds because the seeds contain proteins and fats necessary for growth, molt, fat storage, and weight maintenance. Sunflowers ripen in the fall after the birds' breeding season and provide a source of high-energy food needed for molt and fat storage before the birds' fall migration. Esophageal contents of red-winged blackbirds collected in late summer and fall reveal that 93 percent of the males and 86 percent of the females had eaten sunflower seeds, which comprised 69 percent and 57 percent of the male and female diets, respectively.

Blackbirds damage unharvested sunflowers from early maturation to harvest, but damage is greatest within 18 days of anthesis (i.e., the flowers' blooming period). Damage surveys of sunflower producing areas in North Dakota, South Dakota, and Minnesota indicate that overall loss is generally 1 to 2 percent of the crop. If all producers received less than 2 percent damage, there would be little concern for damage caused by blackbirds. However, damage is not equally distributed, can be severe for some producers, and is fairly consistent from year-to-year within a locality. Research has been conducted throughout the northern Great Plains to estimate the amount of damage birds have caused to ripening sunflower crops. Sunflower damage assessments for North Dakota, South Dakota, and Minnesota showed an estimated loss of $5.1 million in 1979 and $7.9 million in 1980. More recent quantitative bird damage surveys were conducted from 1996 to 1998 in Stutsman and Pierce Counties in North Dakota and Brown and Clark Counties in South Dakota. Assuming damage in these four counties is representative of the damage in all the primary sunflower growing areas in North Dakota, South Dakota, and Minnesota, sunflower producers in these States lost about $8.26 million annually to blackbirds.

Sunflower growers and Government agencies have used both lethal and nonlethal techniques to reduce red-winged blackbird damage to ripening sunflowers. The goal of nonlethal methods is to decrease the availability or attractiveness of the crop to blackbirds or to disperse the birds so that damage is not concentrated in any given area. Examples of nonlethal methods include altering farming practices, using audio and visual frightening devices, growing bird-resistant sunflowers, increasing weed control in fields, and growing decoy crops. Additionally, research has shown that managing dense cattail stands, which are traditional roost sites for blackbirds, aids in dispersing blackbirds from nearby sunflower crops. To date, nonlethal blackbird damage management initiatives have been somewhat effective in reducing blackbird damage to unharvested sunflowers, but have not alleviated the problem in certain areas.

Proposed Program

WS is proposing to use Federal funds authorized by Congress to implement an integrated red-winged blackbird damage management program on private lands when requested by resource owners/managers in North Dakota, South Dakota, or Minnesota. The integrated approach would employ the use of nonlethal and lethal techniques to reduce red-winged blackbird damage to sunflowers.

Nonlethal Techniques

Under the proposed program, WS would continue to employ the use of nonlethal control methods described earlier in this document. WS would also continue to conduct roost management programs to control red-winged blackbird populations near sunflower producing areas. Roost management activities involve the treatment of cattail stands larger than 10 acres with glyphosate herbicide. Effective management of such cattail stands can eliminate a traditional roosting site for blackbirds that is often in close proximity to sunflower crops.

Lethal Techniques

Sources estimate that 39 million red-winged blackbirds migrate through North Dakota and South Dakota annually. Studies indicate that 86 percent of male red-winged blackbirds using spring roosts in the central United States migrate in a northwesterly direction and are likely to breed in the northern Great Plains sunflower growing areas.

Given the apparently successful use in the past of the avicide DRC-1339 for reducing red-winged blackbird damage to rice, a two-pronged research strategy was implemented using DRC-1339 to reduce red-winged blackbird damage to sunflowers. One strategy was to bait spring-migrating red-winged blackbirds as they migrate north to nesting areas. A second strategy was to bait red-winged blackbirds in and around ripening sunflower fields as they migrate south in late summer. Research results showed that late-summer baiting with DRC-1339 was ineffective in reducing red-winged blackbird damage to unharvested sunflowers, likely because of the availability of other food sources, especially sunflower seeds, at that time of the year. The spring baiting strategy was effective for precisely the opposite reason: Due to the lack of other food sources available to blackbirds in the spring, the birds took the bait.

Under the proposed program, WS would employ the use of 2 percent DRC-1339-treated brown rice at red-winged blackbird staging areas in the spring to reduce breeding populations and subsequent damage to ripening sunflowers in the fall. DRC-1339 baiting would occur on not more than 50 acres in harvested fields near red-winged blackbird staging areas in east-central South Dakota and target not more than 2 million red-winged blackbirds annually. The baiting areas would be determined based on the most current red-winged blackbird roost site distribution and the areas where red-winged blackbirds stage. A baiting dilution rate of one treated rice grain to 25 untreated grains proved to be the most efficient in reducing red-winged blackbird populations in Louisiana. The same ratio would be used to protect sunflowers and reduce the risks to nontarget granivorous birds. Baiting areas and sites would be determined through field observations by trained personnel, and DRC-1339-treated bait would not be distributed until risks to nontarget species were evaluated and red-winged blackbirds readily accept the untreated rice.

Nontarget Effects of DRC-1339

Scientists from North Dakota State University, South Dakota State University, and the National Wildlife Research Center's Great Plains Field Station carried out a baiting strategies research program designed to evaluate nontarget effects associated with the use of DRC-1339 treated rice baits.

DRC-1339 was selected for reducing red-winged blackbird damage because of its high toxicity to blackbirds and low toxicity to most mammals, sparrows, finches, and other nontarget species. Red-winged blackbirds likely die as a result of uremic poisoning. The LD50 values for European starlings, other blackbirds, and black-billed magpies range from 1 to 5 mg/kg. DRC-1339 is toxic to doves, pigeons, quails, chickens, ducks, and geese at ≥5.6 mg/kg. In cage trials, 2 percent DRC-1339-treated rice baits did not kill savannah sparrows. Gallinaceous birds and waterfowl may be more resistant to DRC-1339 than blackbirds, and their large size may reduce the chances of ingesting a lethal dose of toxicant.

Whooping cranes (Grus americana) are the only endangered granivorous birds in the northern Great Plains that could potentially be affected by the consumption of DRC-1339 rice baits; however, they feed in large open areas. If whooping cranes are detected in treatment areas, the baiting program would be stopped with minimal risk to the birds. The U.S. Fish and Wildlife Service (FWS), located in Pierre, SD, has reviewed environmental assessments related to the use of DRC-1339 rice baits to reduce red-winged blackbird damage in South Dakota. Although two FWS biological opinions on research projects stated the DRC-1339-treated rice baits were not likely to jeopardize endangered species in South Dakota, a new opinion will be sought.

The potential effects of DRC-1339-treated rice baits on ring-necked pheasants is of special concern for wildlife managers. Thus, in 1994 through 1997, the behavior of pheasants in relation to bait sites was studied in South Dakota. The data suggested that pheasants did not favor plots treated with rice over reference (untreated) plots. However, pheasants were observed feeding through the rice-baited plots on a number of occasions. In addition to field studies, scientists of South Dakota State University conducted independent laboratory studies that showed DRC-1339 did not significantly affect normal pheasant egg-laying, egg hatching, chick survival, or adult survivorship until the bird was near death. In early 1995, small cage and large enclosure studies were conducted to determine female pheasant's preference for brown rice. These studies indicated that some female pheasants prefer cracked corn and sorghum over rice.

DRC-1339 is rapidly metabolized and excreted by birds that ingest treated baits, and it does not bioaccumulate, which probably accounts for its low secondary hazard profile. For example, cats, owls, and magpies would be at risk only after exclusively eating DRC-1339-poisoned starlings for 30 continuous days. Studies using the American kestrel as a surrogate species show that secondary hazards to raptors are minimal, and these birds are not put at risk by DRC-1339 baiting. DRC-1339 also degrades rapidly by ultraviolet light and heat and has a half-life of less than 2 days.

Prior EPA-Authorized Use of DRC-1339

The avian toxicant DRC-1339 (3-Chloro-p-toluidine hydrochloride) has been used to reduce blackbird populations causing agricultural damage in Louisiana, North Dakota, South Dakota, and Texas under section 24C of the Federal Insecticide, Fungicide, and Rodenticide Act. In February 1995, the Environmental Protection Agency (EPA) granted a section 3 label for “Compound DRC-1339 Concentrate-Staging Areas” for bird control in noncrop staging areas associated with red-winged blackbird roosts. The section 24C label for “Compound DRC-1339 Concentrate—ND and SD” is still in effect for North Dakota because this label allows a broader use pattern, including baiting within ripening sunflower fields during late summer.

Public Involvement

We are encouraging members of the public and interested agencies and organizations to assist in the planning of this program and the development of an environmental assessment by answering the following questions:

• What issues or concerns about the proposed sunflower protection program should we analyze?

• What alternatives to the proposed action should we analyze?

• Do you have additional information (i.e., scientific data or studies) that we should consider in the analysis?

Information received will be considered in an environmental assessment (EA) prepared in accordance with the National Environmental Policy Act to determine if an environmental impact statement is necessary. Several issues have already been identified as areas of concern for consideration in the EA:

• Cumulative effects of the proposed damage management program on red-winged blackbird populations.

• Safety concerns regarding the potential effects of the proposed damage management program on the public, domestic pets, and nontarget species, including threatened and endangered species.

• Efficacy of DRC-1339 spring baiting in reducing damage to unharvested sunflowers.

• Public concern about WS' use of chemicals.

• DRC-1339 spring baiting effects on biodiversity.

Other issues may also be included in the analysis and will be identified based on comments submitted by the public and other agencies.

Several alternatives that have been identified for consideration are:

• No involvement by WS in sunflower protection.

• Continue the current WS blackbird damage management program.

• Continue the current WS blackbird damage management program, plus implement a DRC-1339 baiting program of spring-migrating red-winged blackbirds in eastern South Dakota (proposed action).

Other alternatives may also be included in the analysis and will be identified based on comments submitted by the public and other agencies.

Done in Washington, DC, this 16th day of March 2001.
Bobby R. Acord,
Acting Administrator, Animal and Plant Health Inspection Service.

[FR Doc. 01-7108 Filed 3-21-01; 8:45 am]

BILLING CODE 3410-34-P